NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register on February 14, 2018, and no comments were received. NSF is forwarding the proposed renewal submission to the Office of Management and Budget (OMB) for clearance simultaneously with the publication of this second notice. The full submission may be found at: http://www.reginfo.gov/public/do/PRAMain.

FOR FURTHER INFORMATION CONTACT: Comments should be addressed to: Office of Information and Regulatory Affairs of OMB, Attention: Desk Officer for National Science Foundation, 725 7th Street NW, Room 10235, Washington, DC 20503, and to Suzanne H. Plimpton, Reports Clearance Officer, National Science Foundation, 2415 Eisenhower Avenue, Room W18000, Alexandria, Virginia 22314, or send email to splimpto@nsf.gov. Copies of the submission may be obtained by calling Ms. Plimpton at (703) 292-7556. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION:

Comments: Comments are invited on (a) whether the proposed collection of information is necessary for the proper performance of the functions of the NSF, including whether the information shall have practical utility; (b) the accuracy of the NSF's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology.

Title: Engineering Industrial Innovation and Partnerships (IIP) Program Monitoring Data Collections.

OMB Control Number: 3145-0238.

Proposed Project: NSF provides nearly 20 percent of federal funding for basic research to academic institutions.¹ Within NSF, the Directorate for Engineering (ENG) has primary responsibility for promoting the progress of engineering in the United States in order to enable the Nation's capacity to perform. Its investments in engineering research and education aim to build and strengthen a national capacity for innovation that can lead over time to the creation of new shared wealth and a better quality of life. Most NSF programs in engineering are funded through the Directorate for Engineering, which also sponsors the NSF's Industrial Innovation and Partnerships (IIP) Division. To these ends, ENG provides support for research and implementation activities that may meet national needs. While scientists seek to discover what is not yet known, engineers apply fundamental science to design and develop new devices and engineered systems to solve societal problems. ENG also focuses on broadening participation in engineering research and careers, particularly among those individuals traditionally underrepresented and underemployed in the STEM workforce, including but not limited to, women, persons with disabilities, and racial and ethnic minorities.

¹ National Science Foundation. (2012). NSF at a glance. Retrieved from http://www.nsf.gov/about/glance.jsp.

This request seeks approval for a group of information collections intended to monitor outputs, short-term, intermediate and long-term outcomes of NSF-ENG investments in research and innovation in the Division of Industrial Innovation and Partnerships (IIP). IIP programs serve the entire foundation by fostering partnerships to advance technological innovation and plays an important role in the public-private innovation partnership enterprise by investing in science and engineering research across all disciplines that have the potential for high impact in meeting national and societal needs. IIP focuses on leveraging federal, small business, industrial, university, state and community college resources.

Genuine partnerships between academe and industry are an important aspect of IIP programs and should facilitate the types of infrastructure that can sustain and nurture the spread of innovative activity.

Innovation infrastructures educate and train human capital for the research enterprise and the entrepreneurial aspects of innovation; develop social networks characterized by shared commitment and trust; and build a base of operational support without which sustainable partnerships cannot exist. This support includes a diversified base of private investment, a physical place to provide a context for incubation, technical, management, and administrative support, laboratories, communications services, and reliable sources of capital. One end of the innovation spectrum within the division includes unsolicited research proposals generated by the academic community. On the other end of the innovation spectrum, IIP supports small business research proposals aimed at pursuing opportunities to commercialize products and services.

IIP is home to the two Congressionally mandated small business research programs, the Small Business Innovation Research (SBIR) program and the Small Business Technology Transfer (STTR) program. IIP also manages the Partnerships for Innovation: Accelerating Innovation Research (PFI:AIR) as well as the Partnerships for Innovation: Building Innovation Capacity (PFI:BIC) program, which stimulate innovation by building partnerships across the scientific, engineering, and business community. In addition, the IIP leverages industrial support through the Industry/University Cooperative Research Centers (I/UCRC) program. The division also actively participates in NSF-wide programs, such as the Grants Opportunities for Academic Liaison with Industry (GOALI) program. Another NSF-wide program in which IIP actively participates is the Innovation Corps program (I-Corps), which equips scientists with the entrepreneurial tools needed to transform discoveries with commercial realization potential into innovative technologies.² ENG-funded projects could include research opportunities and mentoring for educators, scholars, small businesses and university students.

² National Science Foundation. (2014) About IIP. Retrieved from http://www.nsf.gov/eng/iip/about.jsp.

These survey questionnaires, individually tailored to measure outputs and outcomes for different programs, will provide essential information for program monitoring purposes.

Data collected by ENG IIP program monitoring collections will be used for program planning, management, and evaluation. Summaries of monitoring data are used to respond to queries from Congress, the public, NSF's external merit reviewers who serve as advisors, including Committees of Visitors (COVs), and NSF's Office of the Inspector General. These data are needed for effective administration, program and project monitoring, evaluation, and for measuring attainment of NSF's program and strategic goals, as identified by the President's Accountable Government Initiative, the Government Performance and Results Act (GPRA) Modernization Act of 2010, and NSF's Strategic Plan.

The eight (8) program-specific collections included in this request are designed to assist in management of specific programs and to serve as data resources for current and future program evaluations. As such, expected outcomes could vary according to the nature of the program funding, field of study, and other program characteristics.

Office | Programs
Industrial Innovation and Partnerships (IIP) | Grant Opportunities for Academic Liaison with Industry (GOALI).
| Innovation Corps (I-Corps).
| Partnerships For Innovation: Accelerating Innovation Research (PFI: AIR).
| Partnerships For Innovation: Building Innovation Capacity (PFI:BIC).
| Small Business Innovation Research (SBIR).

This data collection effort will enable program officers to longitudinally monitor outputs and outcomes given the unique goals and purpose of their programs. This is very important to enable appropriate and accurate evidence-based management of the programs and to determine whether or not the specific goals of the programs are being met.

Grantees will be invited to submit this information on a periodic basis via data collection methods that include but are not limited to online surveys, interviews, phone interviews, etc. These indicators are both quantitative and descriptive and may include, for example, the characteristics of project personnel and students; sources of complementary cash and in-kind support to the ENG project; characteristics of industrial and/or other sector participation; research activities; education activities; knowledge transfer activities; patents, licenses; publications; descriptions of significant advances and other outcomes of the ENG-funded effort.

Use of the Information: The data collected will be used for NSF internal reports, historical data, program level studies and evaluations, and for securing future funding for the ENG program maintenance and growth. These data could be used for program evaluation purposes if deemed necessary for a particular program. Evaluation designs could make use of metadata associated with the award, and other characteristics to identify a comparison group to evaluate the impact of the program funding and other interesting research questions.

Estimate of Burden
Collection title | Number of respondents | Annual number of hours/ respondents | Annual hour burden
Grant Opportunities for Academic Liaison with Industry (GOALI) | 200 | 1 | 200
Innovation Corps (I-Corps) Longitudinal Collection | 700 | 1 | 700
Innovation Corps (I-Corps) Pre-Course Survey Questionnaire | 800 | .5 | 400
Innovation Corps (I-Corps) Post-Course Survey Questionnaire | 800 | .5 | 400
Partnerships for Innovation: Accelerating Innovation Research (PFI:AIR) | 200 | 1 | 200
Partnerships for Innovation: Building Innovation Capacity (PFI:BIC) | 30 | 1 | 30
Small Business Innovation Research (SBIR)/Small Business Technology Transfer (STTR) | 800 | 2 | 1,600
SBIR Baseline Monitoring Survey | 800 | 2 | 1,600
Total | 4,430 | 8.5 | 4,880

Respondents: The respondents are PIs, partners or students. For some programs (I-Corps) the burden already includes a response from 3 members of the team in the pre- and post surveys. For all others, one PI or assignee per award completes the questionnaire.

Estimated Number of Responses per Report: One.

Dated: April 23, 2018.
Suzanne H. Plimpton,
Reports Clearance Officer, National Science Foundation.

[FR Doc. 2018-08863 Filed 4-26-18; 8:45 am]

BILLING CODE 7555-01-P